DEPARTMENT OF EDUCATION

[CFDA No. 84.350]

Office of Elementary and Secondary Education; Transition to Teaching Program; Notice Inviting Applications for New Awards for Fiscal Year (FY) 2001

Purpose of Program: The program provides grants to support the recruitment, training and placement of talented individuals from other fields into teaching positions in K-12 classrooms and support them during their first years in the classroom. In particular, the program supports the recruitment, training, placement and support of two groups of nontraditional teaching candidates: (1) Mid-career professionals from various fields who possess strong subject-matter skills to become teachers, particularly in high-need fields such as mathematics, science, foreign languages, bilingual education, reading, and special education, and (2) recent college graduates with outstanding academic records and a baccalaureate degree in a field other than teaching.

Eligible Applicants: Local educational agencies, State educational agencies, educational service agencies, nonprofit agencies and organizations, including nonprofit organizations with expertise in teacher recruitment, and partnerships comprised of two or more of these entities.

Applications Available: April 16, 2001.

Deadline for Transmittal of Applications: June 15, 2001.

Deadline for Intergovernmental Review: August 14, 2001.

Estimated Available Funds: Approximately $31,000,000.

The Department has established separate funding categories for projects of different scope. These categories are (1) national/regional projects where placement of teachers would be in LEAs in more than one State, (2) statewide projects where placement of teachers would be statewide or in LEAs scattered across a particular State, and (3) local projects where placement of teachers would be in one LEA or in two or more LEAs located in close proximity to one another.

Estimated Range of Awards: National/regional projects—$750,000-$3,000,000; Statewide projects—$375,000-$1,500,000; Local projects—$112,000-$1,125,000.

Estimated Average Size of Awards: National/regional projects—$1,500,000; Statewide projects—$700,000; Local projects—$375,000.

Estimated Number of Awards: National/regional grants—5; Statewide grants—14; Local grants—35.

Maximum Award: We will reject any application that proposes a budget for the entire project period exceeding $3,000,000 for a National/regional project, $1,500,000 for a statewide project, or $1,125,000 for a local project. The Department may change the maximum amount through a notice published in the Federal Register. The Department otherwise is not bound by any estimates in this notice.

Project Period: Up to 36 months.

Page Limits: As explained in the application package, the application narrative is where applicants address the selection criteria (and the required application content) that reviewers use in evaluating their applications. Applicants must limit this section of their applications to the equivalent of no more than 50 pages.

• A “page” is 8.5″ x 11″, on one side only, with 1″ margins at the top, bottom, and sides.

• Double space (no more than three lines per vertical inch) all text in the application narrative, including titles, headings, footnotes, quotations, references, and captions, as well as all text in charts, tables, figures, and graphs.

• Use a font that is either 12-point or larger or no smaller than 10 pitch (characters per inch).

• For charts, tables, and graphs, also use a font that is either 12-point or larger or no smaller than 10 pitch.

Reviewers will not read any pages of an application that—

• Exceed the page limit if one applies these standards; or

• Exceed the equivalent of the page limit if you apply other standards.

Applicable Regulations: (a) The Education Department General Administrative Regulations (EDGAR) in 34 CFR parts 74, 75, 77, 79, 80, 82, 85, 86, 97, 98, and 99. (b) The requirements for this program published in this edition of the Federal Register.

For Applications Contact: Education Publications Center (ED Pubs), PO Box 1398, Jessup, MD 20794-1398. Telephone (toll free): 1-877-433-7827. FAX: (301) 470-1244. Individuals who use a telecommunications device for the deaf (TDD) may call (toll free): 1-877-576-7734. You may also contact ED Pubs via its Web site: http://www.ed.gov/pubs/edpubs.html or its E-mail address edpubs@inet.ed.gov

If you request an application from ED Pubs, be sure to identify this competition as follows: CFDA number 84.350.

Grant application packages can be accessed electronically at http://www.ed.gov/GrantApps/. However, because important information may be scrambled when downloading an electronic version of an application package, potential applicants may still wish to request an official copy of the package from ED Pubs.

FOR FURTHER INFORMATION CONTACT: Frances Yvonne Hicks, U.S. Department of Education, 400 Maryland Avenue, SW., Room 3E224, Washington, DC. 20202-6140. Telephone: (202) 260-0964. Inquiries also may be sent by e-mail to: transitiontoteaching@ed.gov, or by FAX to: (202) 205-5630. The Department intends to offer prospective applicants further information about the program and assistance in preparing applications at the following Internet site: http://www.ed.gov/GrantApps/#84.350.

Individuals who use a telecommunications device for the deaf (TDD) may call the Federal Information Relay Service (FIRS) at 1-800-877-8339.

Individuals with disabilities may obtain this document in an alternative format (e.g., Braille, large print, audiotape, or computer diskette) on request to the contact person listed under For Information or Applications Contact.

Electronic Access to This Document

You may view this document, as well as all other Department of Education documents published in the Federal Register, in text or Adobe Portable Document Format (PDF) on the Internet at the following site: www.ed.gov/legislation/FedRegister.

To use PDF you must have Adobe Acrobat Reader, which is available free at the previous site. If you have questions about using PDF, call the U.S. Government Printing Office (GPO) toll free at 1-888-293-6498; or in Washington, DC area at (202) 512-1530.

Note: The official version of this document is the document published in the Federal Register. Free Internet access to the official edition of the Federal Register and the Code of Federal Regulations is available on GPO access at: www.access.gpo.gov/nara/index.html.

Program Authority: 20 U.S.C. 6621, P.L. 106-497.

Dated: April 10, 2001.
Thomas M. Corwin,
Acting Deputy Assistant Secretary for Elementary and Secondary Education.

[FR Doc. 01-9295 Filed 4-13-01; 8:45 am]

BILLING CODE 4000-01-U